FEDERAL COMMUNICATIONS COMMISSION

47 CFR Part 73

[DA 00-1518, MM Docket No. 00-123, RM-9903]

Radio Broadcasting Services; Rincon, PR

AGENCY: Federal Communications Commission.

ACTION: Proposed rule.

SUMMARY: The Commission requests comments on a petition filed by Ocean Communications seeking the allotment of FM Channel 300B to Rincon, PR, as the community's first local aural service. Channel 300B can be allotted to Rincon in compliance with the Commission's minimum distance separation requirements with a site restriction of 26.6 kilometers (16.5 miles) west, at coordinates 18-23-06 NL; 67-29-51 WL, to avoid short-spacings to Station WCMN-FM, Channel 297B, Arecibo, PR, and Station WVOZ-FM, Channel 299B, Carolina, PR. If the channel is ultimately allotted, it will be conditioned on formal approval by the International Telecommunication Union. In addition, the proposed allotment is within the Radio Astronomy Coordination Zone in Puerto Rico, and applicant's will be required to coordinate their applications with the Interference Office at Arecibo Observatory.

DATES: Comments must be filed on or before August 28, 2000, and reply comments on or before September 12, 2000.

ADDRESSES: Federal Communications Commission, 445 12th Street, S.W., Room TW-A325, Washington, DC 20554. In addition to filing comments with the FCC, interested parties should serve the petitioner, or its counsel or consultant, as follows: Jose J. Arzuaga, Jr., P.O. Box 980, Quebradillas, PR 00678 (Technical consultant to petitioner).

FOR FURTHER INFORMATION CONTACT: Leslie K. Shapiro, Mass Media Bureau, (202) 418-2180.

SUPPLEMENTARY INFORMATION: This is a synopsis of the Commission's Notice of Proposed Rule Making, MM Docket No. 00-123, adopted June 28, 2000, and released July 7, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-18080 Filed 7-17-00; 8:45 am]

BILLING CODE 6712-01-P